DEPARTMENT OF TRANSPORTATION

Federal Railroad Administration

49 CFR Parts 229 and 238

[Docket Nos. FRA-2009-0094 and FRA-2009-0095, Notice No. 2]

RIN 2130-AC16

Locomotive Safety Standards; Correction

AGENCY: Federal Railroad Administration (FRA), DOT.

ACTION: Proposed rule; correction.

SUMMARY: FRA is notifying the public that the correct docket number for the Locomotive Safety Standards notice of proposed rulemaking (NPRM) is FRA-2009-0094. The NPRM issued on January 12, 2011, incorrectly identified docket number FRA-2009-0095 as the public docket for this rulemaking proceeding. FRA is requesting that all comments related to this proceeding be submitted to FRA-2009-0094.

DATES: The comment date for the proposed rule published January 12, 2011, at 76 FR 2200, remains March 14, 2011.

FOR FURTHER INFORMATION CONTACT: Michael Masci, Trial Attorney, Office of Chief Counsel, FRA, 1200 New Jersey Avenue, SE., Washington, DC (telephone 202-493-6037).

ADDRESSES: Comments: Comments related to Docket No. FRA-2009-0094, may be submitted by any of the following methods: Web Site: Federal eRulemaking Portal, http://www.regulations.gov. Follow the online instructions for submitting comments.

• Fax: 202-493-2251.

• Mail: Docket Management Facility, U.S. Department of Transportation, 1200 New Jersey Avenue, SE., W12-140, Washington, DC 20590.

• Hand Delivery: Room W12-140 on the Ground level of the West Building, 1200 New Jersey Avenue, SE., W12-140, Washington, DC between 9 a.m. and 5 p.m. Monday through Friday, except Federal holidays.

• Federal eRulemaking Portal: Go to http://www.regulations.gov. Follow the online instructions for submitting comments.

Instructions: All submissions must include the agency name and docket number or Regulatory Identification Number (RIN) for this rulemaking. Note that all comments received will be posted without change to http://www.regulation.gov including any personal information. FRA wishes to inform all potential commenters that anyone is able to search the electronic form of all comments received into any agency docket by the name of the individual submitting the comment (or signing the comment, if submitted on behalf of an association, business, labor union, etc.). You may review DOT's complete Privacy Act Statement in the Federal Register published on April 11, 2000 (Volume 65, Number 70; Pages 19477-78) or you may visit http://dms.dot.gov.

Docket: For access to the docket to read background documents or comments received, go to http://www.regulations.gov at any time or to Room W12-140 on the Ground level of the West Building, 1200 New Jersey Avenue, SE., Washington, DC between 9 a.m. and 5 p.m. Monday through Friday, except Federal holidays.

SUPPLEMENTARY INFORMATION: On January 12, 2011, FRA published an NPRM related to locomotive safety standards. See 76 FR 2200. The NPRM established a public docket to receive comments in response to FRA's proposal related to locomotive safety standards. That NPRM mistakenly lists FRA-2009-0095 (“incorrect docket”) as the docket number for the NPRM. The correct docket number for this proceeding is FRA-2009-94 (“correct docket”). FRA requests that comments to the NPRM be submitted to the correct docket.

Comments submitted to the incorrect docket will be fully considered as part of the locomotive safety standards rulemaking. Because the incorrect docket is listed in the January 12, 2011, Federal Register document issuing the NPRM, comments submitted to the incorrect docket will remain valid. FRA will transfer all comments and information that are received in the incorrect docket to the correct docket. As such, interested parties that wish to read comments to the NPRM should access docket FRA-2009-0094 to locate the comments.

Issued in Washington, DC, on February 9, 2011.
Robert Lauby,
Deputy Associate Administrator for Regulatory and Legislative Operations.

[FR Doc. 2011-3260 Filed 2-14-11; 8:45 am]

BILLING CODE 4910-06-P